DEPARTMENT OF TRANSPORTATION

[Docket No. DOT-OST-2004-16951]

Request for Comments of a Reinstatement of a Previously Approved Information Collection

AGENCY: Office of the Secretary, DOT.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on November 8, 2011 (76 FR 69320). No comments were received.

DATES: Comments must be submitted on or before March 26, 2012.

FOR FURTHER INFORMATION CONTACT: Lauralyn Remo, Air Carrier Fitness Division (X-56), Office of Aviation Analysis, Office of the Secretary, Department of Transportation, 1200 New Jersey Avenue SE., Washington, DC 20590, (202) 366-9721.

SUPPLEMENTARY INFORMATION: Title: Aircraft Accident Liability Insurance, 14 CFR Part 205.

OMB Control Number: 2106-0030.

Type of Request: Reinstatement of a Previously Approved Information Collection.

Abstract: 14 CFR Part 205 contains the minimum requirements for air carrier accident liability insurance to protect the public from losses, and directs that certificates evidencing appropriate coverage must be filed with the Department.

Respondents: U.S. and foreign air carriers.

Estimated Number of Respondents: 5,308.

Annual Estimated Total Burden on Respondents: 1,854 hours.

Frequency of Collection: On occasion.

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:48.

Issued in Washington, DC, on February 17, 2012.
Patricia Lawton,
Departmental PRA Clearance Officer, Office of the Secretary.

[FR Doc. 2012-4298 Filed 2-23-12; 8:45 am]

BILLING CODE 4910-9X-P